DEPARTMENT OF ENERGY

Federal Energy Regulatory Commission

Combined Notice of Filings #3

Take notice that the Commission received the following electric rate filings:

Docket Numbers: ER10-2288-004.

Applicants: Optim Energy Marketing LLC.

Description: Optim Energy Marketing LLC submits tariff filing per 35: Optim Market Based Rates Tariff to be effective 8/20/2010.

Filed Date: 03/14/2011.

Accession Number: 20110314-5216.

Comment Date: 5 p.m. Eastern Time on Monday, April 4, 2011.

Docket Numbers: ER10-2763-001.

Applicants: Bangor Hydro Electric Company.

Description: Bangor Hydro Electric Company submits tariff filing per 35: Amendment to MBR Tariff to be effective 5/13/2011.

Filed Date: 03/14/2011.

Accession Number: 20110314-5213.

Comment Date: 5 p.m. Eastern Time on Monday, April 4, 2011.

Docket Numbers: ER11-1835-002.

Applicants: Kingsport Power Company.

Description: Kingsport Power Company submits tariff filing per 35: 20110314 Kingsport AEP Op Co MBR Concurrence to be effective 10/8/2010.

Filed Date: 03/14/2011.

Accession Number: 20110314-5039.

Comment Date: 5 p.m. Eastern Time on Monday, April 4, 2011.

Docket Numbers: ER11-1838-002.

Applicants: Wheeling Power Company.

Description: Wheeling Power Company submits tariff filing per 35: 20110314 Wheeling AEP Op Co MBR Concurrence to be effective 10/8/2010.

Filed Date: 03/14/2011.

Accession Number: 20110314-5041.

Comment Date: 5 p.m. Eastern Time on Monday, April 4, 2011.

Docket Numbers: ER11-2334-009.

Applicants: Midwest Independent Transmission System Operator, Inc.

Description: Midwest Independent Transmission System Operator, Inc. submits tariff filing per 35.17(b): ATC Notice of Succession Amendment II to be effective 2/9/2011.

Filed Date: 03/14/2011.

Accession Number: 20110314-5050.

Comment Date: 5 p.m. Eastern Time on Monday, April 4, 2011.

Docket Numbers: ER11-2530-001.

Applicants: Pacific Gas and Electric Company.

Description: Pacific Gas and Electric Company submits tariff filing per 35: Compliance Filing: SVP IA Modifications to be effective 2/28/2011.

Filed Date: 03/14/2011.

Accession Number: 20110314-5000.

Comment Date: 5 p.m. Eastern Time on Monday, April 4, 2011.

Docket Numbers: ER11-3068-000.

Applicants: PJM Interconnection, L.L.C.

Description: Cancellation of WMPAs of PJM Interconnection, L.L.C.

Filed Date: 03/11/2011.

Accession Number: 20110311-5162.

Comment Date: 5 p.m. Eastern Time on Friday, April 1, 2011.

Docket Numbers: ER11-3069-000.

Applicants: Viridian Energy, Inc.

Description: Viridian Energy, Inc. submits tariff filing per 35.12: Viridian Energy, Inc. Market Based Rate Tariff to be effective 3/14/2011.

Filed Date: 03/14/2011.

Accession Number: 20110314-5169.

Comment Date: 5 p.m. Eastern Time on Monday, April 4, 2011.

Docket Numbers: ER11-3070-000.

Applicants: Wisconsin Electric Power Company.

Description: Wisconsin Electric Power Company submits tariff filing per 35.13(a)(2)(iii): Crystal Falls WDS Agreement Filing to be effective 5/15/2011.

Filed Date: 03/14/2011.

Accession Number: 20110314-5187.

Comment Date: 5 p.m. Eastern Time on Monday, April 4, 2011.

Docket Numbers: ER11-3071-000.

Applicants: Wisconsin Electric Power Company.

Description: Wisconsin Electric Power Company submits tariff filing per 35.13(a)(2)(iii): Ontonagon WDS Agreement Filing to be effective 5/15/2011.

Filed Date: 03/14/2011.

Accession Number: 20110314-5198.

Comment Date: 5 p.m. Eastern Time on Monday, April 4, 2011.

Docket Numbers: ER11-3072-000.

Applicants: Wisconsin Electric Power Company.

Description: Wisconsin Electric Power Company submits tariff filing per 35.13(a)(2)(iii): Alger Delta WDS Agreement filing to be effective 5/15/2011.

Filed Date: 03/14/2011.

Accession Number: 20110314-5211.

Comment Date: 5 p.m. Eastern Time on Monday, April 4, 2011.

Docket Numbers: ER11-3073-000.

Applicants: Southwest Power Pool, Inc.

Description: Southwest Power Pool, Inc. submits tariff filing per 35.13(a)(2)(iii): 1636R2 Kansas Electric Power Cooperative, Inc. to be effective 10/1/2010.

Filed Date: 03/14/2011.

Accession Number: 20110314-5214.

Comment Date: 5 p.m. Eastern Time on Monday, April 4, 2011.

Docket Numbers: ER11-3074-000.

Applicants: Optim Energy Marketing LLC.

Description: Optim Energy Marketing LLC submits tariff filing per 35.15: Cancellation of 3/08/2011 filing to be effective 8/20/2010.

Filed Date: 03/14/2011.

Accession Number: 20110314-5215.

Comment Date: 5 p.m. Eastern Time on Monday, April 4, 2011.

Take notice that the Commission received the following electric securities filings:

Docket Numbers: ES11-11-000.

Applicants: Northern Pass Transmission LLC.

Description: Amendment to Application of Northern Pass Transmission LLC for an Order Pursuant to Section 204 of the FPA Authorizing the Issue and Sale of Securities.

Filed Date: 03/11/2011.

Accession Number: 20110311-5164.

Comment Date: 5 p.m. Eastern Time on Monday, March 21, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Dated: March 14, 2011.
Nathaniel J. Davis, Sr.,
Deputy Secretary.

[FR Doc. 2011-6765 Filed 3-22-11; 8:45 am]

BILLING CODE 6717-01-P